DEPARTMENT OF TRANSPORTATION

Federal Highway Administration

Environmental Impact Statement: Jackson County, NC

AGENCY: Federal Highway Administration (FHWA), Department of Transportation.

ACTION: Notice of intent.

SUMMARY: The FHWA is issuing this notice to advise the public that an environmental impact statement will be prepared for a proposed highway project from NC 107 to U.S. 23-74 east of Sylva, Jackson County, NC. (TIP Project R-4745.)

FOR FURTHER INFORMATION CONTACT: Mr. Clarence W. Coleman, P.E., Operations Engineer, Federal Highway Administration, 310 New Bern Avenue, Suite 410, Raleigh, North Carolina 27601, Telephone: (919) 747-7014.

SUPPLEMENTARY INFORMATION: The FHWA and the North Carolina Department of Transportation (NCDOT) will prepare an environmental impact statement (EIS) for the proposed NC 107 Connector from NC 107 to U.S. 23-74 east of Sylva. The purpose of this project is to relieve traffic congestion in the Sylva area. The proposed action is consistent with the Sylva Thoroughfare Plan adopted in 1994 and the Jackson County Comprehensive Transportation Plan that is anticipated for adoption in 2009. The following alternatives will be studied: (1) The “no-build” alternative, (2) improve existing facilities and (3) a new location.

Letters describing the proposed action and soliciting comments have been sent to appropriate Federal, State and local agencies. Opportunities will be provided for involvement with the public in defining the project purpose and need and determining the range of alternatives to be considered for the project. Citizens' informational workshops and meetings with local officials will be held in the study area. Upon completion of the draft EIS, a public hearing will be held. The draft EIS will be available for public and agency review and comment prior to the public hearing. Information on the time and place of the workshops and hearings will be provided in the local news media.

An interagency project team is being assembled to obtain input on major milestones during the project's development. These include the purpose and need, detailed study alternatives, bridge lengths, alignment reviews, the preferred alternative, and avoidance and minimization of environmental impacts.

To ensure that the full range of issues related to the proposed action is addressed and all significant issues are identified, comments and suggestions are invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program.)

Issued on: September 25, 2008.
Clarence W. Coleman,
Operations Engineer, Raleigh, North Carolina.

[FR Doc. E8-23087 Filed 9-30-08; 8:45 am]

BILLING CODE 4910-22-P